DEPARTMENT OF AGRICULTURE

Submission for OMB Review; Comment Request

August 24, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Uniform Grant Application for Non-Entitlement Discretionary Grants.

OMB Control Number: 0584-0512.

Summary of Collection: The Food and Nutrition Service (FNS) has establish a process for a uniform grant application usable for all of the non-entitlement discretionary grant programs to collect the information from grant applicants needed to evaluate and rank applicants and protect the integrity of the grantee selection process. All FNS discretionary grant programs will be eligible, but not required to use the uniform grant application package. The authorities for these grants vary. The term “grant” in this submission refers only to non-entitlement discretionary grants or cooperative agreements. Discretionary grant announcements include a number of information collections, including a “project description” (program narrative), budget information, assurances, and certifications. An optional faith-based survey form may also be included for the purpose of helping the Federal government determine the organizational nature of the applicant population, specifically when dealing with nonprofit organizations. The requirements for the program narrative statement are based on the requirements for program narrative statements described in section 1.c(5) of OMB Circular A-102 and OMB A-110 (as implemented at USDA 7 CFR Part 3015, 3016 and 3019); and will apply to all types of grantees—State and local governments, non-profit organizations, institutions of higher education, hospitals, and for profit organizations.

Need and Use of the Information: As the primary users of the information collected, FNS will review, evaluate and approve grant and cooperative agreement applications. The uniform grant application package will include general information and instructions; a checklist; a requirements for the program narrative statement describing how the grant objectives will be reached as well as a description of the budget; the Standard Form 424 series that requests basic information, budget information and assurances regarding Nonprocurement Debarment and Suspension, the Drug-Free Workplace rule, general assurances, a lobbying certification, and an optional survey form to ensure equal opportunity for applicants. Without this information, FNS will not have adequate data to select appropriate grantees or evaluate which grants should be continued.

Description of Respondents: State, Local, or Tribal Government; Business or other for-profit; Not for profit institutions.

Number of Respondents: 353.

Frequency of Responses: Reporting: Other (one-time).

Total Burden Hours: 32,380.

Ruth Brown,
Departmental Information Collection Clearance Officer.

[FR Doc. 05-17116 Filed 8-26-05; 8:45 am]

BILLING CODE 3410-30-P